DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
St. Helena Parish, Louisiana, and Incorporated Areas
Docket No.: FEMA-B-1204 and B-1221
Joseph Branch | Approximately 0.70 mile upstream of Kendrick Road | +189 | Unincorporated Areas of St. Helena Parish.
| Approximately 0.90 mile upstream of Kendrick Road | +189
Tickfaw River | Approximately 1.48 miles downstream of State Route 16 | +110 | Village of Montpelier.
| At the Twelvemile Creek confluence | +111
Tributary of Tickfaw River | Approximately 1.14 miles upstream of the Tickfaw River confluence | +115 | Unincorporated Areas of St. Helena Parish.
| Approximately 1.68 miles upstream of the Tickfaw River confluence | +119
Twelvemile Creek | At the Tickfaw River confluence | +111 | Village of Montpelier.
| At the upstream side of State Route 43 | +112
Ward Line Canal | Approximately 790 feet upstream of Sitman Road | +185 | Town of Greensburg.
| Approximately 1,480 feet upstream of Sitman Road | +187
* National Geodetic Vertical Datum.
+ North American Vertical Datum.
# Depth in feet above ground.
‸ Mean Sea Level, rounded to the nearest 0.1 meter.
ADDRESSES
Town of Greensburg
Maps are available for inspection at the Town Hall, 14560 Louisiana Highway 37, Greensburg, LA 70441.
Unincorporated Areas of St. Helena Parish
Maps are available for inspection at the St. Helena Parish Police Jury Administration Building, 17911 Louisiana Highway 43, Greensburg, LA 70441.
Village of Montpelier
Maps are available for inspection at the Town Hall, 36400 Louisiana Highway 16, Montpelier, LA 70422.
Susquehanna County, Pennsylvania (All Jurisdictions)
Docket No.: FEMA-B-1232
Choconut Creek | Approximately 0.9 mile downstream of Kellum Road | +1038 | Township of Choconut.
| Approximately 1,430 feet upstream of State Route 267 | +1275
DuBois Creek | At the Susquehanna River confluence | +875 | Borough of Hallstead, Township of Great Bend.
| Approximately 1.2 miles upstream of Steam Hollow Road | +1036
Dundaff Creek | At the East Branch Tunkhannock Creek confluence | +1047 | Township of Clifford.
| Approximately 0.6 mile upstream of State Route 106 | +1093
East Branch Tunkhannock Creek | Approximately 0.8 mile downstream of LR 57037 | +963 | Township of Clifford, Township of Lenox.
| Approximately 1.7 miles upstream of State Route 106 | +1083
Salt Lick Creek | At the Susquehanna River confluence | +877 | Borough of Hallstead, Borough of New Milford, Township of Great Bend, Township of New Milford.
| Approximately 0.4 mile upstream of State Route 1012 | +1273
Starrucca Creek | At the Susquehanna River confluence | +911 | Borough of Lanesboro.
| At North Main Street | +911
Susquehanna River | At the downstream New York state boundary | +872 | Borough of Great Bend, Borough of Hallstead, Borough of Lanesboro, Borough of Oakland, Borough of Susquehanna Depot, Township of Great Bend, Township of Harmony, Township of Oakland.
| At the upstream New York state boundary | +918
Trowbridge Creek | At the Susquehanna River confluence | +874 | Township of Great Bend.
| At the New York state boundary | +982
* National Geodetic Vertical Datum.
+ North American Vertical Datum.
# Depth in feet above ground.
‸ Mean Sea Level, rounded to the nearest 0.1 meter.
ADDRESSES
Borough of Great Bend
Maps are available for inspection at the Borough Building, 81 Elizabeth Street, Great Bend, PA 18821.
Borough of Hallstead
Maps are available for inspection at the Municipal Building, 101 Franklin Avenue, Hallstead, PA 18822.
Borough of Lanesboro
Maps are available for inspection at the Borough Hall, 418 Main Street, Lanesboro, PA 18827.
Borough of New Milford
Maps are available for inspection at the Borough Office, 948 Main Street, Suite 1, New Milford, PA 18834.
Borough of Oakland
Maps are available for inspection at the Oakland Borough Building, 15 Wilson Avenue, Susquehanna, PA 18847.
Borough of Susquehanna Depot
Maps are available for inspection at the Susquehanna Depot Borough Hall, 83 Erie Boulevard, Suite A, Susquehanna, PA 18847.
Township of Choconut
Maps are available for inspection at the Choconut Township Hall, 26499 State Route 267, Friendsville, PA 18818.
Township of Clifford
Maps are available for inspection at the Township Building, 119 Cemetery Street, Clifford, PA 18441.
Township of Great Bend
Maps are available for inspection at the Great Bend Township Building, 33253 State Route 151, Susquehanna, PA 18847.
Township of Harmony
Maps are available for inspection at the Harmony Township Office, 4197 Starrucca Creek Road, Susquehanna, PA 18847.
Township of Lenox
Maps are available for inspection at the Lenox Township Municipal Building, 2811 State Route 92, Kingsley, PA 18826.
Township of New Milford
Maps are available for inspection at the Township Building, 19730 State Route 11, New Milford, PA 18834.
Township of Oakland
Maps are available for inspection at the Oakland Township Building, 36 Riverside Drive, Susquehanna, PA 18847.

(Catalog of Federal Domestic Assistance No. 97.022, “Flood Insurance.”)

James A. Walke,
Acting Deputy Associate Administrator for Mitigation, Department of Homeland Security, Federal Emergency Management Agency.

[FR Doc. 2013-02946 Filed 2-8-13; 8:45 am]

BILLING CODE 9110-12-P